DEPARTMENT OF COMMERCE

International Trade Administration

[C-555-004, C-557-831, C-549-852, C-552-842]

Crystalline Silicon Photovoltaic Cells, Whether or Not Assembled Into Modules, From Cambodia, Malaysia, Thailand, and the Socialist Republic of Vietnam: Initiation of Countervailing Duty Investigations

AGENCY: Enforcement and Compliance, International Trade Administration, Department of Commerce.

DATES: Applicable May 14, 2024.

FOR FURTHER INFORMATION CONTACT: Dusten Horn or Garry Kasparov (Cambodia), Preston Cox or Scarlet Jaldin (Malaysia), Shane Subler or Henry Wolfe (Thailand), and Frank Schmitt (the Socialist Republic of Vietnam (Vietnam)), AD/CVD Operations, Offices I, VI, and VIII, Enforcement and Compliance, International Trade Administration, U.S. Department of Commerce, 1401 Constitution Avenue NW, Washington, DC 20230; telephone: (202) 482-5075, (202) 482-1397, (202) 482-5041, (202) 482-4275, (202) 482-2000, (202) 482-0574, and (202) 482-4880, respectively.

SUPPLEMENTARY INFORMATION:

The Petitions

On April 24, 2024, the U.S. Department of Commerce (Commerce) received countervailing duty (CVD) petitions concerning imports of crystalline silicon photovoltaic cells, whether or not assembled into modules (solar cells), from Cambodia, Malaysia, Thailand, and Vietnam filed in proper form on behalf of The American Alliance for Solar Manufacturing Trade Committee (the petitioner or Committee).¹ On May 9, 2024, the petitioner filed an amendment to the Petitions, clarifying the identity of the members of the Committee.² The CVD petitions were accompanied by antidumping duty (AD) petitions concerning imports of solar cells from Cambodia, Malaysia, Thailand, and Vietnam.³

¹ See Petitioner' Letters, “Petitions for the Imposition of Antidumping and Countervailing Duties,” dated April 24, 2024 (the Petitions); and “Errata to General Issues Volume I of Antidumping and Countervailing Duty Petitions,” dated April 26, 2024.

² See Petitioner's Letter, “Amendment to Petitions for the Imposition of Antidumping and Countervailing Duties,” dated May 9, 2024 (Petition Amendment). The petitioner clarifies that the members of the Committee are: First Solar, Inc.; Hanwha Q CELLS USA, Inc.; and Mission Solar Energy LLC. See Petition Amendment at 1.

³ See Petitions.

Between April 26 and May 13, 2024, Commerce requested supplemental information pertaining to certain aspects of the Petitions.⁴ Between April 30 and May 13, 2024, the petitioner filed timely responses to these requests for additional information.⁵

⁴ See Commerce's Letters, “Supplemental Questions,” dated April 26, 2024; “Petition for the Imposition of Countervailing Duties on Imports of Crystalline Silicon Photovoltaic Cells, Whether or Not Assembled into Modules, from the Kingdom of Cambodia: Supplemental Questions,” dated April 30, 2024; “Petition for the Imposition of Countervailing Duties on Imports of Crystalline Silicon Photovoltaic Cells, Whether or Not Assembled into Modules, from Malaysia: Supplemental Questions,” dated April 30, 2024; “Petition for the Imposition of Countervailing Duties on Imports of Crystalline Silicon Photovoltaic Cells, Whether or Not Assembled into Modules, from Thailand: Supplemental Questions,” dated April 30, 2024; and “Petition for the Imposition of Countervailing Duties on Imports of Crystalline Silicon Photovoltaic Cells, Whether or Not Assembled into Modules, from the Socialist Republic of Vietnam: Supplemental Questions,” dated April 30, 2024, see also Memoranda, “Phone Call with Counsel to the Petitioner,” dated May 3, 2024 (May 3, 2024, Memorandum); and “Phone Call with Counsel to the Petitioner,” dated May 13, 2024.

⁵ See Petitioner's Letters, “Petitioner's Responses to First Supplemental Questionnaire Regarding General Injury Vol. I of the Petition,” dated April 30, 2024 (First General Issues Supplement); “Petitioner's Response to First Supplemental Questionnaire Regarding Cambodia Countervailing Duty Volume VI of the Petition,” dated May 1, 2024; “Petitioner's Response to First Supplemental Questionnaire Regarding Malaysia Countervailing Duty Volume VII of the Petition,” dated May 2, 2024; “Petitioner's Responses to Frist Supplemental Questionnaire Regarding Thailand Countervailing Duty Volume VIII of the Petition,” dated May 3, 2024; “Petitioner's Responses to First Supplemental Questionnaire Regarding Vietnam Countervailing Duty Volume IX of the Petition,” dated May 3, 2024; “Petitioner's Response to Second Supplemental Questionnaire Regarding Cambodia Countervailing Duty Volume VI of the Petition,” dated May 6; “Petitioner's Additional Responses to First Supplemental Questionnaire Regarding Malaysia Countervailing Duty Volume VII of the Petition,” dated May 6, 2024; “Petitioner's Additional Responses to First Supplemental Questionnaire Regarding Thailand Countervailing Duty Volume VIII of the Petition,” dated May 6, 2024; “Petitioner's Additional Responses to the Supplemental Questionnaire Regarding Vietnam Countervailing Duty Volume IX of the Petition,” dated May 6, 2024; “Petitioner's Responses to Supplemental Questionnaire Phone Call Regarding General Injury Vol. I of the Petition,” dated May 7, 2024 (Second General Issues Supplement); and “Petitioner's Response to the Third Supplemental Questionnaire Regarding General Injury Vol. I of the Petition,” dated May 13, 2024 (Third General Issues Supplement).

In accordance with section 702(b)(1) of the Tariff Act of 1930, as amended (the Act), the petitioner alleges that the Government of Cambodia (GOC), the Government of Malaysia (GOM), the Government of Thailand (GOT), and the Government of Vietnam (GOV) (collectively, Governments) are providing countervailable subsidies, within the meaning of sections 701 and 771(5) of the Act, to producers of solar cells from Cambodia, Malaysia, Thailand, and Vietnam, and that such imports are materially injuring, or threatening material injury to, the domestic industry producing solar cells in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry because the petitioner is an interested party as defined in section 771(9)(F) of the Act.⁶ Commerce also finds that the petitioner demonstrated sufficient industry support with respect to the initiation of the requested CVD investigations.⁷

⁶ The majority of the members of the Committee are interested parties under section 771(9)(C) of the Act; thus, the Committee qualifies as an interested party under section 771(9)(F) of the Act.

⁷ See section on “Determination of Industry Support for the Petitions,” infra.

Periods of Investigation

Because the Petitions were filed on April 24, 2024, the periods of investigation for the Cambodia, Malaysia, Thailand, and Vietnam CVD investigations are January 1, 2023, through December 31, 2023.⁸

⁸ See 19 CFR 351.204(b)(2).

Scope of the Investigations

The merchandise covered by these investigations are solar cells from Cambodia, Malaysia, Thailand, and Vietnam. For a full description of the scope of these investigations, see the appendix to this notice.

Comments on the Scope of the Investigations

On May 3, 2024, Commerce requested information and clarification from the petitioner regarding the proposed scope to ensure that the scope language in the Petitions is an accurate reflection of the products for which the domestic industry is seeking relief.⁹ On May 7, 2024, the petitioner provided clarifications and revised the scope.¹⁰ The description of merchandise covered by these investigations, as described in the appendix to this notice, reflects these revisions.

⁹ See May 3, 2024, Memorandum.

¹⁰ See Second General Issues Supplement at 2-6.

As discussed in the Preamble to Commerce's regulations, we are setting aside a period for interested parties to raise issues regarding product coverage (i.e., scope).¹¹ Commerce will consider all comments received from interested parties and, if necessary, will consult with interested parties prior to the issuance of the preliminary determinations. If scope comments include factual information, all such factual information should be limited to public information.¹² To facilitate preparation of its questionnaires, Commerce requests that scope comments be submitted by 5:00 p.m. Eastern Time (ET) on June 3, 2024, which is 20 calendar days from the signature date of this notice.¹³ Any rebuttal comments, which may include factual information, must be filed by 5:00 p.m. ET on June 13, 2024, which is 10 calendar days from the initial comment deadline.

¹¹ See Antidumping Duties; Countervailing Duties; Final Rule, 62 FR 27296, 27323 (May 19, 1997) (Preamble).

¹² See 19 CFR 351.102(b)(21) (defining “factual information”).

¹³ See 19 CFR 351.303(b)(1).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹⁴ An electronically filed document must be received successfully in its entirety by the time and date it is due.

¹⁴ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹⁵ Commerce held consultations with the GOC on May 7, 2024,¹⁶ the GOV on May 7, 2024,¹⁷ the GOM on May 8, 2024,¹⁸ and the GOT on May 8, 2024.¹⁹

¹⁵ See Commerce's Letters, “Invitation for Consultation to Discuss the Countervailing Duty Petition on Crystalline Silicon Photovoltaic Cells, Whether or Not Assembled into Modules from Malaysia,” dated April 25, 2024; “Invitation for Consultation to Discuss the Countervailing Duty Petition on Crystalline Silicon Photovoltaic Cells, Whether or Not Assembled into Modules from the Socialist Republic of Vietnam,” dated April 25, 2024; “Countervailing Duty Petition on Crystalline Silicon Photovoltaic Cells, Whether or Not Assembled into Modules from the Kingdom of Cambodia: Invitation for Consultations to Discuss the Countervailing Duty Petition,” dated April 26, 2024; and “Invitation for Consultation to Discuss the Countervailing Duty Petition on Crystalline Silicon Photovoltaic Cells, Whether or Not Assembled into Modules, from the Kingdom of Thailand,” dated April 26, 2024.

¹⁶ See Memorandum, “Consultations with the Government of Cambodia,” dated May 7, 2024.

¹⁷ See Memorandum, “Consultations with officials from the Government of the Socialist Republic of Vietnam,” dated May 7, 2024.

¹⁸ See Memorandum, “Consultations with Officials from the Government of Malaysia” dated May 9, 2024.

¹⁹ See Memorandum, “Consultations with Officials from the Royal Thai Government,” dated May 10, 2024.

Additionally, given the nature of certain subsidy programs alleged in the Petitions, on May 7, 2024, Commerce issued a letter to the Government of the People's Republic of China (China), providing the Government of China with the opportunity to meet with Commerce officials.²⁰ In response to that letter, Commerce forwarded the letter to officials at the Chinese Embassy in Washington, DC. ²¹ On May 13, 2024, at the request of the Government of China, Commerce met with officials from China's Ministry of Commerce.²²

²⁰ See Commerce's Letter, “Countervailing Duty Petitions on Crystalline Silicon Photovoltaic Cells, Whether or Not Assembled into Modules from Cambodia, Malaysia, Thailand and the Socialist Republic of Vietnam (Vietnam),” dated May 7, 2024.

²¹ See Memorandum, “Letter to the Government of the People's Republic of China,” dated May 13, 2024.

²² See Memorandum, “Meeting with the People's Republic of China—Ministry of Commerce,” dated May 13, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,²³ they do so for different purposes and pursuant to a separate and distinct authority. In addition, Commerce's determination is subject to limitations of time and information. Although this may result in different definitions of the like product, such differences do not render the decision of either agency contrary to law.²⁴

²³ See section 771(10) of the Act.

²⁴ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.²⁵ Based on our analysis of the information submitted on the record, we have determined that solar cells, as defined in the scope, constitute a single domestic like product, and we have analyzed industry support in terms of that domestic like product.²⁶

²⁵ See Petitions at Volume I (pages 27-31); see also Petitioner's Letter, “Response to Comments on Standing and Industry Support,” dated May 9, 2024 (Petitioner Response), at 7-12 and Exhibit 2.

²⁶ For a discussion of the domestic like product analysis as applied to these cases and information regarding industry support, see Checklists, “Countervailing Duty Investigation Initiation Checklists: Crystalline Silicon Photovoltaic Cells, Whether or Not Assembled into Modules, from Cambodia, Malaysia, Thailand, and the Socialist Republic of Vietnam,” dated concurrently with, and hereby adopted by, this notice (Country-Specific CVD Initiation Checklists), at Attachment II, Analysis of Industry Support for the Antidumping and Countervailing Duty Petitions Crystalline Silicon Photovoltaic Cells, Whether or Not Assembled into Modules, from Cambodia, Malaysia, Thailand, and the Socialist Republic of Vietnam (Attachment II). These checklists are on file electronically via ACCESS.

In determining whether the petitioner has standing under section 702(c)(4)(A) of the Act, we considered the industry support data contained in the Petitions with reference to the domestic like product as defined in the “Scope of the Investigations,” in the appendix to this notice. To establish industry support, the petitioner provided the 2023 production of the domestic like product for the U.S. producers that support the Petitions.²⁷ The petitioner estimated the production of the domestic like product for the entire domestic industry based on the production data from the ITC's 2024 report from its second monitoring proceeding of the safeguard measures on solar cells and made certain adjustments to these data to estimate total U.S. production of the domestic like product in 2023.²⁸ The petitioner compared the production of the supporters of the Petitions to the estimated total 2023 production of the domestic like product for the entire domestic industry.²⁹ We have relied on the data provided by the petitioner for purposes of measuring industry support.³⁰

²⁷ See Petitions at Volume I (pages 9-11 and Exhibits I-3 and I-19); see also First General Issues Supplement at 3 and Exhibit I-Supp-5; and Petitioner Response at 16-17 and Exhibits 8-9.

²⁸ See Petitions at Volume I (pages 9-11 and Exhibit I-19); see also First General Issues Supplement at 1-4 and Exhibits I-Supp-2 through I-Supp-5; and Petitioner Response at 16-17 and Exhibits 9-10.

²⁹ See Petitions at Volume I (pages 9-11 and Exhibits I-3 and I-19); see also First General Issues Supplement at 1-4 and Exhibits I-Supp-2 through I-Supp-5; and Petitioner Response at 16-17 and Exhibits 8-10.

³⁰ See Petitions at Volume I (pages 8-11 and Exhibits I-1, I-2, and I-19); see also First General Issues Supplement at 1-4 and Exhibits I-Supp-2 through I-Supp-5; Third General Issues Supplement; and Petitioner Response at 16-17 and Exhibits 8-10. For further discussion, see Attachment II of the Country-Specific CVD Initiation Checklists.

On May 3, 2024, we received timely filed comments on industry support from NextEra Energy Constructors, LLC (NextEra), a U.S. importer of solar cells.³¹ On May 7, 2024, we received timely filed comments on industry support from Illuminate USA LLC (Illuminate), a U.S. producer of the domestic like product.³² On May 7, 2024, we also received timely filed comments on industry support from Canadian Solar US Module Manufacturing Corporation, Canadian Solar International Limited, and Canadian Solar Manufacturing (Thailand) Co., Ltd. (collectively, Canadian Solar), a U.S. producer of the domestic like product and foreign producer and exporter of solar cells.³³ On May 9, 2024, the petitioner responded to the comments from NextEra, Illuminate, and Canadian Solar in a timely filed rebuttal submission.³⁴

³¹ See NextEra's Letter, “Request to Reject the Petitions or to Poll the Industry,” dated May 3, 2024.

³² See Illuminate's Letter, “Challenge to Petitioner's Standing for Domestic Production of Cells and Request to Poll the Domestic Industry,” dated May 7, 2024.

³³ See Canadian Solar's Letter, “Request to Exclude Hanwha from Commerce's Industry Support Calculations,” dated May 7, 2024.

³⁴ See Petitioner Response.

Our review of the data provided in the Petitions, the First General Issues Supplement, the Third General Issues Supplement, the Petitioner Response, and other information readily available to Commerce indicates that the petitioner have established industry support for the Petitions.³⁵ First, the Petitions established support from domestic producers (or workers) accounting for more than 50 percent of the total production of the domestic like product and, as such, Commerce is not required to take further action to evaluate industry support (e.g., polling).³⁶ Second, the domestic producers (or workers) have met the statutory criteria for industry support under section 702(c)(4)(A)(i) of the Act because the domestic producers (or workers) who support the Petitions account for at least 25 percent of the total production of the domestic like product.³⁷ Finally, the domestic producers (or workers) have met the statutory criteria for industry support under section 702(c)(4)(A)(ii) of the Act because the domestic producers (or workers) who support the Petitions account for more than 50 percent of the production of the domestic like product produced by that portion of the industry expressing support for, or opposition to, the Petitions.³⁸ Accordingly, Commerce determines that the Petitions were filed on behalf of the domestic industry within the meaning of section 702(b)(1) of the Act.³⁹

³⁵ See Petitions at Volume I (pages 2-3 and Exhibits I-3 and I-4); see also General Issues Supplement at 4-5 and Attachment 2. For further discussion, see Attachment II of the Country-Specific CVD Initiation Checklists.

³⁶ See Attachment II of the Country-Specific CVD Initiation Checklists; see also section 702(c)(4)(D) of the Act.

³⁷ See Attachment II of the Country-Specific CVD Initiation Checklists.

³⁸ Id.

³⁹ Id.

Injury Test

Because Cambodia, Malaysia, Thailand, and Vietnam are “Subsidies Agreement Countries” within the meaning of section 701(b) of the Act, section 701(a)(2) of the Act applies to these investigations. Accordingly, the ITC must determine whether imports of the subject merchandise from Cambodia, Malaysia, Thailand, and/or Vietnam materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports from Cambodia, Malaysia, Thailand, and Vietnam individually exceed the negligibility threshold provided for under section 771(24)(A) of the Act.⁴⁰

⁴⁰ See Petitions at Volume I (pages 40-41 and Exhibit I-32).

The petitioner contends that the industry's injured condition is illustrated by the significant and increasing volume of subject imports; the increase in subject imports' market share; lost sales and revenues; underselling and price depression and/or suppression; and the negative impact on capacity utilization, employment, planned expansions and new facilities, and financial performance.⁴¹ We assessed the allegations and supporting evidence regarding material injury, threat of material injury, causation, cumulation, as well as negligibility, and we have determined that these allegations are properly supported by adequate evidence and meet the statutory requirements for initiation.⁴²

⁴¹ See Petitions at Volume I (pages 3-8, 26-27, 32-59 and Exhibits I-4 through I-18, I-25, and through I-53); see also First General Issues Supplement at 4 and Exhibit I-Supp-6.

⁴² See Country-Specific CVD Initiation Checklists at Attachment III, Analysis of Allegations and Evidence of Material Injury and Causation for the Antidumping and Countervailing Duty Petitions Covering Crystalline Silicon Photovoltaic Cells, Whether or Not Assembled into Modules, from Cambodia, Malaysia, Thailand, and Vietnam.

Initiation of CVD Investigations

Based upon the examination of the Petitions and supplemental responses, we find that they meet the requirements of section 702 of the Act. Therefore, we are initiating CVD investigations to determine whether imports of solar cells from Cambodia, Malaysia, Thailand, and Vietnam benefit from countervailable subsidies conferred by the GOC, GOM, GOT, and the GOV, respectively. In accordance with section 703(b)(1) of the Act and 19 CFR 351.205(b)(1), unless postponed, we will make our preliminary determinations no later than 65 days after the date of these initiations.

Cambodia

Based on our review of the Petitions, we find that there is sufficient information to initiate a CVD investigation on 13 of the 16 programs alleged by the petitioner. For a full discussion of the basis for our decision to initiate on each program, see the Cambodia CVD Initiation Checklist. A public version of the initiation checklist for this investigation is available on ACCESS.

Malaysia

Based on our review of the Petitions, we find that there is sufficient information to initiate a CVD investigation on 18 of the 19 programs alleged by the petitioner. For a full discussion of the basis for our decision to initiate on each program, see the Malaysia CVD Initiation Checklist. A public version of the initiation checklist for this investigation is available on ACCESS.

Thailand

Based on our review of the Petitions, we find that there is sufficient information to initiate a CVD investigation on 19 of the 20 programs alleged by the petitioner. For a full discussion of the basis for our decision to initiate on each program, see the Thailand CVD Initiation Checklist. A public version of the initiation checklist for this investigation is available on ACCESS.

Vietnam

Based on our review of the Petitions, we find that there is sufficient information to initiate a CVD investigation on 31 of the 32 of the programs alleged by the petitioner. For a full discussion of the basis for our decision to initiate on each program, see the Vietnam CVD Initiation Checklist. A public version of the initiation checklist for this investigation is available on ACCESS.

Respondent Selection

In the Petitions, the petitioner identified 14 companies in Cambodia, 27 companies in Malaysia, 23 companies in Thailand, and 50 companies in Vietnam as producers or exporters of solar cells.⁴³ Commerce intends to follow its standard practice in CVD investigations and calculate company-specific subsidy rates in these investigations. In the event that Commerce determines that the number of known producers/exporters is large, and it cannot individually examine each company based upon Commerce's resources, Commerce intends to select mandatory respondents based on quantity and value (Q&V) questionnaires issued to the potential respondents. Commerce normally selects mandatory respondents in CVD investigations using U.S. Customs and Border Protection (CBP) entry data for U.S. imports under the appropriate Harmonized Tariff Schedule of the United States (HTSUS) subheadings listed in the “Scope of the Investigations” in the appendix. However, for these investigations, due to Commerce's determination that imports of solar cells from Cambodia, Malaysia, Thailand, and Vietnam are circumventing the CVD order on solar cells from the People's Republic of China,⁴⁴ we plan to use CBP data only to identify the largest producers/exporters, and we will further refine that data to increase accuracy by issuing Q&V questionnaires to the largest producer/exporters accounting for the largest volume of exports and select respondents for individual examination based on by issuing Q&V questionnaires.

⁴³ See Petitions at Volume I (page 23 and Exhibit I-23); see also April 30, 2024, Questionnaire Response at Exhibit 1-Supp-1; and May 7, 2024, Questionnaire Response at Exhibit-I-Supp2-2.

⁴⁴ See Antidumping and Countervailing Duty Orders on Crystalline Silicon Photovoltaic Cells, Whether or Not Assembled Into Modules, from the People's Republic of China: Final Scope Determination and Final Affirmative Determinations of Circumvention With Respect to Cambodia, Malaysia, Thailand, and Vietnam, 88 FR 57419 (August 23, 2023).

Due to the large number of producers and/or exporters identified in each country, Commerce has determined to limit the number of Q&V questionnaires that it will issue to exporters and producers based on CBP data for entries of solar cells under the appropriate HTSUS subheadings listed in the “Scope of the Investigations,” in the appendix. Accordingly, for Malaysia, Thailand, and Vietnam, Commerce will send Q&V questionnaires to the largest producers and/or exporters that are identified in the CBP entry data for which there is complete address information on the record.

With respect to Cambodia, Commerce intends to send Q&V questionnaires to all producers and/or exporters that are identified in the Petitions for which there is complete address information on the record.

Commerce will also post the Q&V questionnaires along with filing instructions on Commerce's website at https://www.trade.gov/ec-adcvd-case-announcements. Exporters/producers of solar cells from Cambodia, Malaysia, Thailand, and Vietnam that do not receive Q&V questionnaires may still submit a response to the Q&V questionnaire and can obtain a copy of the Q&V questionnaire from Commerce's website. Responses to the Q&V questionnaire must be submitted by the relevant producers/exporters no later than 5:00 p.m. on May 28, 2024, which is two weeks from the signature date of this notice. An electronically filed document must be received successfully, in its entirety, by ACCESS no later than 5:00 p.m. ET on the deadline noted above. Commerce intends to finalize its decision regarding respondent selection within 20 days of publication of this notice.

Distribution of Copies of the Petitions

In accordance with section 702(b)(4)(A) of the Act and 19 CFR 351.202(f), a copy of the public version of the Petitions has been provided to the GOC, GOM, GOT, and GOV via ACCESS. To the extent practicable, we will attempt to provide a copy of the public version of the Petitions to each exporter named in the Petitions, as provided under 19 CFR 351.203(c)(2).

ITC Notification

Commerce will notify the ITC of its initiation, as required by section 702(d) of the Act.

Preliminary Determination by the ITC

The ITC will preliminarily determine, within 45 days after the date on which the Petitions were filed, whether there is a reasonable indication that imports of solar cells from Cambodia, Malaysia, Thailand, and/or Vietnam are materially injuring, or threatening material injury to, a U.S. industry.⁴⁵ A negative ITC determination for any country will result in the investigation being terminated with respect to that country.⁴⁶ Otherwise, these CVD investigations will proceed according to statutory and regulatory time limits.

⁴⁵ See section 703(a)(1) of the Act.

⁴⁶ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁷ and, if the information is submitted to rebut, clarify, or correct factual information already on the record, to provide an explanation identifying the information already on the record that the factual information seeks to rebut, clarify, or correct.⁴⁸ Time limits for the submission of factual information are addressed in 19 CFR 351.301, which provides specific time limits based on the type of factual information being submitted. Interested parties should review the regulations prior to submitting factual information in these investigations.

⁴⁷ See 19 CFR 351.301(b).

⁴⁸ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁹ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁵⁰

⁴⁹ See 19 CFR 351.302.

⁵⁰ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁵¹ Parties must use the certification formats provided in 19 CFR 351.303(g).⁵² Commerce intends to reject factual submissions if the submitting party does not comply with the applicable certification requirements.

⁵¹ See section 782(b) of the Act.

⁵² See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁵³

⁵³ See Administrative Protective Order, Service, and Other Procedures in Antidumping and Countervailing Duty Proceedings, 88 FR 67069 (September 29, 2023).

This notice is issued and published pursuant to sections 702 and 777(i) of the Act, and 19 CFR 351.203(c).

Dated: May 14, 2024.
Ryan Majerus,
Deputy Assistant Secretary for Policy and Negotiations, performing the non-exclusive functions and duties of the Assistant Secretary for Enforcement and Compliance.

Appendix

Scope of the Investigations

The merchandise covered by these investigations is crystalline silicon photovoltaic cells, and modules, laminates, and panels, consisting of crystalline silicon photovoltaic cells, whether or not partially or fully assembled into other products, including, but not limited to, modules, laminates, panels and building integrated materials.

These investigations cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the investigations.

Excluded from the scope of the investigations are thin film photovoltaic products produced from amorphous silicon (a-Si), cadmium telluride (CdTe), or copper indium gallium selenide (CIGS).

Also excluded from the scope of the investigations are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the investigations are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the investigations are:

(1) Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

(2) Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the investigations: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a twoport rectangular connector.

Additionally excluded from the scope of these investigations are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of these investigations are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Modules, laminates, and panels produced in a third-country from cells produced in a subject country are covered by the investigations; however, modules, laminates, and panels produced in a subject country from cells produced in a third-country are not covered by the investigations.

Also excluded from the scope of these investigations are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77FR 7,017 (December 7, 2012).

Merchandise covered by the investigations is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the investigations is dispositive.

[FR Doc. 2024-11027 Filed 5-17-24; 8:45 am]

BILLING CODE 3510-DS-P